DEPARTMENT OF HEALTH AND HUMAN SERVICES

National Institutes of Health

Notice of NIH Pathways to Prevention Workshop: The Role of Opioids in the Treatment of Chronic Pain

SUMMARY: Notice is hereby given of the National Institutes of Health (NIH) “Pathways to Prevention Workshop: The Role of Opioids in the Treatment of Chronic Pain,” which is open to the public.

DATES: The workshop will be held September 29-30, 2014. Sessions will begin at 8:30 a.m. on both days of the workshop.

ADDRESSES: The workshop will be at the NIH Natcher Conference Center, 45 Center Drive, Bethesda, Maryland 20892.

FOR FURTHER INFORMATION CONTACT: Registration and workshop information is available at the NIH Office of Disease Prevention Web site: https://prevention.nih.gov/programs-events/pathways-to-prevention/upcoming-workshops/opioids-chronic-pain; or by sending email to prevention@mail.nih.gov.

SUPPLEMENTARY INFORMATION: Chronic pain is a major public health problem that is estimated to affect more than 100 million people in the United States and about 20 to 30 percent of the population worldwide. The prevalence of persistent pain is expected to rise in the near future as the incidence of associated diseases (including diabetes, obesity, cardiovascular disorders, arthritis, and cancer) increases in the aging U.S. population.

Opioids are powerful analgesics that are commonly used and found to be effective for many types of pain. However, opioids can produce significant side effects, including constipation, nausea, mental clouding, and respiratory depression, which can sometimes lead to death.

In addition, long-term opioid use can also result in physical dependence, making it difficult to discontinue use even when the original cause of pain is no longer present. Furthermore, there is mounting evidence that long-term opioid use for pain can actually produce a chronic pain state, whereby patients find themselves in a vicious cycle in which opioids are used to treat pain caused by previous opioid use.

Data from the Centers for Disease Control and Prevention indicate that the prescribing of opioids by clinicians has increased threefold in the last 20 years, contributing to the problem of prescription opioid abuse. Today, the number of people who die from prescription opioids exceeds the number of those who die from heroin and cocaine, combined.

Health care providers are in a difficult position when treating moderate to severe chronic pain; opioid treatments may lessen the pain, but may also cause harm to patients. Additionally, there has not been adequate testing of opioids in terms of what types of pain they best treat, in what populations of people, and in what manner of administration. With insufficient data, and often inadequate training, many clinicians prescribe too much opioid treatment when lesser amounts of opioids or non-opioids would be effective. Alternatively, some health care providers avoid prescribing opioids altogether for fear of side effects and potential addiction, causing some patients to suffer needlessly.

The 2014 “NIH Pathways to Prevention Workshop: The Role of Opioids in the Treatment of Chronic Pain” will seek to clarify:

• Long-term effectiveness of opioids for treating chronic pain;

• Potential risks of opioid treatment in various patient populations;

• Effects of different opioid management strategies on outcomes related to addiction, abuse, misuse, pain, and quality of life;

• Effectiveness of risk mitigation strategies for opioid treatment; and

• Future research needs and priorities to improve the treatment of pain with opioids.

The workshop is sponsored by the NIH Office of Disease Prevention and the NIH Pain Consortium.

Initial planning for each Pathways to Prevention workshop is coordinated by a Working Group that nominates panelists and speakers and develops and finalizes questions that frame the workshop. After finalizing the questions, an evidence report is prepared by an Evidence-based Practice Center through a contract with the Agency for Healthcare Research and Quality (AHRQ). During the one-and-one-half-day workshop, invited experts discuss the body of evidence, and attendees have opportunities to provide comments during open discussion periods. After weighing evidence from the evidence report, expert presentations, and public comments, an unbiased, independent panel will prepare a draft report that identifies research gaps and future research priorities. The draft report is posted on the ODP Web site, and public comments are accepted for two weeks. The final report is then released approximately two weeks later.

Please Note: As part of the measures to ensure the safety of NIH employees, patients, visitors, and property, all visitors to the NIH Bethesda campus must be prepared to show a photo ID upon request. Visitors may be required to pass through a metal detector and have bags, backpacks, or purses inspected or x-rayed as they enter the campus. For more information about the security measures at the NIH, please visit the Web site at http://www.nih.gov/about/visitorsecurity.htm.

Dated: August 14, 2014.
Lawrence A. Tabak,
Principal Deputy Director, National Institutes of Health.

[FR Doc. 2014-19804 Filed 8-19-14; 8:45 am]

BILLING CODE 4140-01-P